DEPARTMENT OF THE INTERIOR

National Park Service

[NPS-WASO-DPOL-0911-8477; 0004-SYP]

Meeting of the National Park System Advisory Board

AGENCY: National Park Service, Department of the Interior.

ACTION: Notice of meeting.

SUMMARY: Notice is hereby given in accordance with the Federal Advisory Committee Act, 5 U.S.C. Appendix, and Parts 62 and 65 of title 36 of the Code of Federal Regulations, that the National Park System Advisory Board will meet December 1-2, 2011, in Key Largo, Florida. The agenda will include the review of proposed actions regarding the National Historic Landmarks Program and the National Natural Landmarks Program. Interested parties are encouraged to submit written comments and recommendations that will be presented to the Board. Interested parties also may attend the board meeting and upon request may address the Board concerning an area's national significance.

DATES: (a) Written comments regarding any proposed National Historic Landmarks matter or National Natural Landmarks matter listed in this notice will be accepted by the National Park Service until November 28, 2011 (b) The Board will meet on December 1-2, 2011.

Location: The meeting will be held in the Largo Key Ballroom of the Key Largo Bay Marriott Beach Resort, 103800 Overseas Highway, MM 103.8, Key Largo, Florida 33037, telephone 305-453-0000.

Information: (a) For information concerning the National Park System Advisory Board or to request to address the Board, contact Shirley Sears Smith, Office of Policy, National Park Service, 1201 I Street, NW., 12th Floor, Washington, DC 20005, telephone 202-354-3955, e-mail Shirley_S_Smith@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street, NW. (2280), Washington, DC 20240, e-mail Paul_Loether@nps.gov. (c) To submit a written statement specific to, or request information about, any National Natural Landmarks matter listed below, or for information about the National Natural Landmarks Program or National Natural Landmarks designation process and the effects of designation, contact Dr. Margaret Brooks, Program Manager, National Natural Landmarks Program, National Park Service, 225 N. Commerce Park Loop, Tucson, Arizona 85745, e-mail Margi_Brooks@nps.gov.

SUPPLEMENTARY INFORMATION: On December 1, the Board will convene its business meeting at 8 a.m., and adjourn for the day at 1 p.m. During the afternoon, the Board will tour sites within Everglades National Park. On December 2, the Board will reconvene the business meeting at 8 a.m., and adjourn at 5:30 p.m. During the course of the two days, the Board will be addressed by National Park Service Director Jonathan Jarvis; briefed by other National Park Service officials regarding education, leadership development and science; deliberate and make recommendations concerning National Historic Landmark Program and National Natural Landmarks Program proposals; and receive status briefings on matters pending before committees of the Board.

A. National Historic Landmarks (NHL) Program

NHL Program matters will be considered at the business meeting on the morning of December 1, during which the Board may consider the following:

Nominations for New NHL Designations

Arizona

• Fort Apache and Theodore Roosevelt School, Fort Apache, AZ.

• 1956 Grand Canyon TWA-United Airlines Aviation Accident Site, Grand Canyon NP, AZ.

California

• Carrizo Plain Archeological District, San Luis Obispo County, CA.

• Nuestra Señora Reina De La Paz, Kern County, CA.

• Drakes Bay Historic and Archeological District, Marin County, CA.

Colorado

• Trujillo Homesteads, Alamosa County, CO.

Florida

• Florida Southern College Historic District, Lakeland, FL.

Indiana

• Akima Pinšiwa A Wiiki (Chief Jean-Baptiste De Richardville House), Fort Wayne, IN.

Michigan

• Meadow Brook Hall, Rochester, MI.

Montana

• Deer Medicine Rocks, Rosebud County, MT.

New Mexico

• Mission San José de Los Jémez and Gíusewa Pueblo Site, Sandoval County, NM.

New York

• Gardner Earl Memorial Chapel and Crematorium, Troy, NY.

• Montauk Point Lighthouse, Suffolk County, NY.

• The Town Hall, New York, NY.

• USS Slater, Albany, NY

Pennsylvania

• Braddock Carnegie Library, Braddock, PA.

Puerto Rico

• Bacardi Distillery, Catano, PR.

Virginia

• Eyre Hall, Northampton County, VA.

• Saint Peter's Parish Church, New Kent County, VA.

Proposed Amendments to Existing NHL Designation

• Fort Benton Historic District, Fort Benton, MT (updated documentation and boundary clarification).

B. National Natural Landmarks (NNL) Program

NNL Program matters will be considered at the business meeting on the morning of December 1, during which the Board may consider the following:

Nominations for New NNL Designations

California

• Lake Shasta Caverns, Shasta County, CA.

West Virginia

• Ice Mountain, Hampshire County, WV.

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, e-mail address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the 12th floor conference room, 1201 I Street, NW., Washington, DC.

Dated: September 23, 2011.
Bernard Fagan,
Chief, Office of Policy.

[FR Doc. 2011-25046 Filed 9-28-11; 8:45 am]

BILLING CODE 4312-52-P